DEPARTMENT OF AGRICULTURE

Forest Service

Wallowa-Whitman National Forest, Baker County, OR; North Fork Burnt River Mining

AGENCY: Forest Service, USDA.

ACTION: Correction—Notice of intent to prepare a supplement to a final environmental impact statement.

Corrected Information: The Responsible Official has been changed to the Whitman District Ranger. This 2012 North Fork Burnt River Mining Record of Decision will replace and supercede the 2004 North Fork Burnt River Mining Record of Decision only where necessary to address the inadequacies identified by the court of Oregon (Papak 2006). The 2012 ROD will also document the decision and rationale for incorporating updated or new information included in the Supplement. The Record of Decision for this analysis is expected to be signed later this summer.

FOR FURTHER INFORMATION CONTACT: Sophia Millar, Interdisciplinary Team Leader, Wallowa-Whitman National Forest, Wallowa Mountains Office, PO Box 905, Joseph, OR 97846, Phone: (541) 426-5540.

Dated: June 28, 2012.
Monica J. Schwalbach,
Forest Supervisor.

[FR Doc. 2012-16467 Filed 7-3-12; 8:45 am]

BILLING CODE 3410-11-P